DEPARTMENT OF AGRICULTURE

National Institute of Food and Agriculture

Solicitation of Input From Stakeholders Regarding Centers of Excellence, Implementation

AGENCY: National Institute of Food and Agriculture, USDA.

ACTION: Notice of web-based listening session and request for stakeholder input.

SUMMARY: As part of the National Institute of Food and Agriculture's (NIFA) strategy to successfully implement Section 7214 of Public Law 113-79, the Agricultural Act of 2014, NIFA is soliciting stakeholder input on how it will provide priority to Centers of Excellence in the receipt of funding from its competitive research or extension programs.

NIFA will be holding web-based listening sessions in order to solicit stakeholder input on this new challenge area. The focus of the web-based listening sessions will be to gather stakeholder input that will be used in developing a process for consistently providing priority consideration to these Centers of Excellence. NIFA is particularly interested in input on how best to define the scope of a Center of Excellence, whether there are models being used by other federal agencies that might be useful to examine, and at what point in the review/selection process “priority” should be given to applications submitted by Centers of Excellence.

All comments must be received by close of business on July 31, 2014, to be considered in the initial drafting of the FY 2015 process for priority consideration of the Centers of Excellence.

DATES: The web-based listening sessions will be held on Thursday, July 17, 2014, from 1:00 p.m. to 3:00 p.m., Eastern Standard Time (ET), and Thursday, July 31, from 1:00 p.m. to 3:00 p.m., ET. All written comments must be received by 5:00 p.m., ET on Thursday, July 31, 2014.

ADDRESSES: The web-based listening sessions will be hosted using Adobe Connect. On July 17th and July 31st and, please access the following Web site, http://nifa-connect.nifa.usda.gov/frnce/. In addition, audio conference call capabilities can be accessed at 1-888-844-9904, participant code 3702409. You may submit comments, identified by NIFA-2014-003, by any of the following methods:

Federal eRulemaking Portal: http://www.regulations.gov. Follow the instructions for submitting comments.

Email: Centers@nifa.usda.gov. Include NIFA-2014-003 in the subject line of the message.

Fax: 202-690-0289.

Mail: Paper, disk or CD-ROM submissions should be submitted to Centers of Excellence; Centers of Excellence-Office of the Administrator, National Institute of Food and Agriculture, U.S. Department of Agriculture, STOP 2201, 1400 Independence Avenue SW., Washington, DC 20250-2201.

Hand Delivery/Courier: Centers of Excellence-Office of the Administrator, National Institute of Food and Agriculture, U.S. Department of Agriculture, Room 4248, Waterfront Centre, 800 9th Street SW., Washington, DC 20024.

Instructions: All submissions received must include the agency name and reference to NIFA-2014-003]. All comments received will be posted to http://www.regulations.gov, including any personal information provided.

FOR FURTHER INFORMATION CONTACT: Ms. Valeria Best, (202) 720-8540 (phone), (202) 690-1260 (fax), or vbest@nifa.usda.gov.

SUPPLEMENTARY INFORMATION:

Comment Procedures

Persons wishing to present oral comments during the web-based listening session on either Thursday, July 17, or Thursday, July 31, 2014 are requested to pre-register by contacting Ms. Valeria Best at (202) 720-8540, by fax at (202) 690-1260 or by email to vbest@nifa.usda.gov. Participants may reserve one 5-minute comment period. More time may be available, depending on the number of people wishing to make a presentation. Reservations will be confirmed on a first-come, first-served basis. All other participants may provide comments during the web-based listening session if time permits, or submit written comments. All written comments must be received by close of business July 31, 2014, to be considered. All comments and the official transcript of the web-based listening session, when they become available, may be reviewed on the NIFA Web page, http://www.nifa.usda.gov, for six months.

Background and Purpose

NIFA is moving forward to implement Section 7214 of the 2014 Farm Bill. Beginning in October of 2014, this section requires that the Agency prioritize Centers of Excellence established for purposes of food and agricultural research, extension, and education activities when selecting recipients of grants from any of the Agency's research or extension competitive grant programs. While the Farm Bill delineates criteria for being recognized as a Center of Excellence, such as coordination and cost effectiveness, the leveraging of resources using public-private partnerships, and the ability to increase economic returns to rural communities, it will be important that NIFA hear from the community about what the scope of a Center of Excellence should be, and what our stakeholders believe are the strengths and weaknesses of some of the models that are used by other federal agencies.

Section 7214 of the Agricultural Act of 2014 (Pub. L. 113-79) (i.e., the 2014 Farm Bill) adds a new section 1673 to the Food, Agriculture, Conservation, and Trade Act of 1990 (7 U.S.C. 5926) to require the Secretary of Agriculture to prioritize Centers of Excellence that are established for purposes of carrying out research, extension, and education activities relating to the food and agricultural sciences (as defined in section 1404 of the National Agricultural Research, Extension, and Teaching Policy Act of 1977 (7 U.S.C. 3103)) for the receipt of funding for any competitive research or extension program administered by the Secretary. The amendment takes effect on October 1, 2014. The Agency is considering different ways to implement the “priority” consideration of grant proposals from Centers of Excellence, including using the Center of Excellence distinction as a tie-breaker, should proposals be equally ranked for funding during our peer review process, or providing additional points to Center of Excellence proposals as part of applying evaluation criteria during the peer review process.

A center of excellence is composed of 1 or more of the following entities that provide financial or in-kind support to the Center of Excellence: State agricultural experiment stations; colleges and universities; university research foundations; other research institutions and organizations; Federal agencies; national laboratories; private organizations, foundations, or corporations; and individuals.

The criteria for Centers of Excellence include efforts: to ensure coordination and cost effectiveness by reducing unnecessarily duplicative efforts regarding research, teaching, and extension; to leverage available resources by using public-private partnerships among agricultural industry groups, institutions of higher education, and the Federal Government; to implement teaching initiatives to increase awareness and effectively disseminate solutions to target audiences through extension activities; and to increase the economic returns to rural communities by identifying, attracting, and directing funds to high-priority agricultural issues. Where practicable, the criteria for recognition as a center of excellence shall also include efforts to improve teaching capacity and infrastructure at colleges and universities (including land-grant colleges and universities, cooperating forestry schools, Non Land Grant Colleges of Agriculture, and Schools of Veterinary Medicine). NIFA is considering using a process where an applicant could self-identify as a Center of Excellence in an area of science as part of a particular grant application (using the legislative criteria described above), and the applicant's justification would be evaluated as part of the peer review process, or using a process separate from the grant application process, where an applicant could request designation as a Center of Excellence, and should the Agency grant such a designation, it would potentially be applicable to multiple grant competitions where proposed work fell within a particular area of science.

NIFA is holding web-based listening sessions to obtain comments to consider in developing a process for implementing the Centers of Excellence provision. The web-based listening sessions are open to the public. Written comments and suggestions may be submitted to Ms. Valeria Best at the address above.

Implementation Plans

NIFA plans to consider stakeholder input received from this web-based listening session as well as other written comments in developing a process to implement the Centers of Excellence provision for FY 2015.

Done at Washington, DC this 10th day of July, 2014.
Robert E. Holland,
Acting Associate Director, Programs, National Institute of Food and Agriculture.

[FR Doc. 2014-16614 Filed 7-14-14; 8:45 am]

BILLING CODE 3410-22-P